DEPARTMENT OF HEALTH AND HUMAN SERVICES

Office of the Secretary

[Document Identifier: HHS-OS-0990-New-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before March 9, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-OS-0990-New-30D for reference.

Information Collection Request Title: Evaluation of the National Training on Trauma-Informed Care (TIC).

Abstract: The HHS OWH is requesting OMB approval to conduct a new, one time outcome evaluation of the National Training Initiative on Trauma-Informed Care (TIC) for Community-Based Providers From Diverse Service Systems training curriculum. Policymakers and providers in many service sectors recognize the central role of trauma in causing or complicating physical and behavioral health conditions and the critical need for trauma-informed care (TIC) systems. The proposed evaluation will capture both knowledge gained and implementation impact achieved as a result of the TIC training and TA. Analyses and findings will be used to further refine the TIC curriculum and training approach, and can help inform OWH and HHS in future policymaking efforts. Information collected will also help researchers and practitioners better understand the impact of adopting a trauma-informed approach on and the quality of care provided by community-based providers.

Likely respondents:

Site Visits

Site visits are designed to capture both the knowledge gained by training participants and the implementation impact achieved in their organizations as a result of the OWH TIC training and technical assistance.

Online Survey

The goal of the online survey is to assess the impact of the training on participants' skills acquired in, knowledge about, and values and beliefs surrounding trauma-informed care.

Total Estimated Annualized Burden—Hours
Form name | Type of respondent | Number of respondents | Number of responses per respondent | Average burden per response (in hours) | Total burden hours
Online Survey | Leadership and Line/Other Frontline Staff | 300 | 1 | 25/60 | 125
Site Visits | Leadership and Line/Other Frontline Staff | 144 | 1 | 40/60 | 96
Total |  |  |  |  | 221

Darius Taylor,
Information Collection Clearance Officer.

[FR Doc. 2015-02313 Filed 2-5-15; 8:45 am]

BILLING CODE 4150-33-P